NATIONAL WOMEN'S BUSINESS COUNCIL

Quarterly Public Meeting

AGENCY: National Women's Business Council.

ACTION: Notice of open public meeting.

DATES: The meeting will be held on Tuesday, June 23, 2015 from 9:45 a.m. to 11:15 a.m. CST.

ADDRESSES: The meeting will be held at The Neal Kocurek Memorial Austin Convention Center, located at 500 E Cesar Chavez Street in Austin, Texas.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

This meeting is the 3rd quarterly meeting of the Council for Fiscal Year 2015. The meeting will include: Remarks from the Council Chair, Carla Harris, and report outs from each of the NWBC committees—the Group of Six, Communications and Engagement, and Research and Policy. Updates will be shared on the current research projects, including: Women's participation in accelerators and incubators (qualitative), women's participation in corporate supplier diversity programs (qualitative), undercapitalization as a contributing factor to failure (quantitative), women's use of social networks (quantitative), and an impact study of the Women Business Center program. The Council will also announce the FY2015 research portfolio. Time will be reserved at the end for audience participants to address Council Members directly with questions, comments, or feedback. Following this meeting, NWBC partner organization Women's Business National Enterprise Council (WBENC) will kick off their National Conference and Business Fair.

FOR FURTHER INFORMATION CONTACT: The meeting is open to the public however advance notice of attendance is requested. To RSVP and confirm attendance, the general public should email nwbcouncil@nwbc.gov with subject line—“RSVP for Austin.” Participants will receive confirmation information with the logistical details closer to the date of the meeting. Anyone wishing to make a presentation to the NWBC at this meeting must either email their interest to chair@nwbc.gov or call the main office number at 202-205-3850. For more information, please visit the National Women's Business Council Web site at www.nwbc.gov.

Miguel J. L'Heureux,
SBA Committee Management Officer.

[FR Doc. 2015-09293 Filed 4-21-15; 8:45 am]

BILLING CODE P